DEPARTMENT OF DEFENSE

Office of the Secretary

[Transmittal No. 15-52]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives, Transmittal 15-52 with attached Policy Justification and Sensitivity of Technology.

Dated: February 2, 2016.
Aaron Siegel,
Alternate OSD Federal Register Liaison Officer, Department of Defense.

Transmittal No. 15-52

Notice of Proposed Issuance of Letter of Offer Pursuant to Section 36(b)(1) of the Arms Export Control Act, as amended

(i) Prospective Purchaser: Government of Iraq (GoI)

(ii) Total Estimated Value:

Major Defense Equipment* | $ .550 billion
Other | $1.400 billion
Total | $1.950 billion

(iii) Description and Quantity or Quantities of Articles or Services under Consideration for Purchase: provides additional weapons, munitions, equipment, and logistics support for F-16 aircraft.

Major Defense Equipment (MDE) includes:

Twenty (20) each Joint Helmet Mounted Cueing System (JHMCS)

Twenty-four (24) each AIM-9M Sidewinder missile

One hundred and fifty (150) each AGM-65D/G/H/K Maverick missile

Fourteen thousand one hundred and twenty (14,120) each 500-lb General Purpose (GP) bomb body/warhead for use either as unguided or guided bombs. Depending on asset availability during case execution, total quantity of 14,120 each 500-lb warheads will comprise a mix of MK-82 500-lb warheads and/or BLU-111 500-lb warheads from stock and/or new contract procurement.

Two thousand four hundred (2,400) each 2,000-lb GP bomb body/warheads for use either as unguided or guided bombs. Depending on asset availability during case execution, total quantity of 2,400 each 2,000-lb warheads will comprise a mix of MK-84 2,000-lb warheads and/or BLU-117 2,000-lb warheads from stock and/or new contract procurement.

Eight thousand (8,000) each Laser Guided Bomb (LGB) Paveway II tail kits. Will be combined with 500-lb warheads in the above entry for MK-82 and/or BLU-111 to build a GBU-12 guided bomb.

Two hundred and fifty (250) each LGB Paveway II tail kits. Will be combined with 2,000-lb warheads in the above entry for MK-82 and/or BLU-117 to build a GBU-10 guided bomb.

One hundred and fifty (150) each LGB Paveway III tail kits. Will be combined with 2,000-lb warheads in the above entry for MK-82 and/or BLU-117 to build a GBU-24 guided bomb.

Eight thousand, five hundred (8,500) each FMU-152 fuzes. Will be used in conjunction with the LGB tail kits and warheads in the above entries to build GBU All Up Rounds (AUR's). Includes provisioning for spare FMU-152 fuze units (MDE).

Four (4) each WGU-43CD2/B Guidance Control Units

One (1) each M61 Vulcan Rotary 20mm cannon

Six (6) each MK-82 inert bomb

Four (4) each MK-84 inert bomb

Also included are items of significant military equipment (SME), spare and repair parts, publications, technical documents, weapons components, support equipment, personnel training, training equipment, Aviation Training, Contract Engineering Services, U.S. Government and contractor logistics, engineering, and technical support services, as well as other related elements of logistics and program support. Additional services provided are Aviation Contract Logistics Services including maintenance, supply, component repair/return, tools and manpower. This notification also includes Base Operations Support Services including construction, outfitting, supply, security, weapons, ammunition, vehicles, utilities, power generation, food, water, morale/recreation services, aircraft support and total manpower.

(iv) Military Department: U.S. Air Force (YAA)

(v) Prior Related Cases, if any:

FMS case SAG-$4.2 billion-13 Dec 2010

FMS case SAH-$2.3 billion-12 Dec 2011

(vi) Sales Commission, Fee, etc., Paid, Offered, or Agreed to be Paid: None

(vii) Sensitivity of Technology Contained in the Defense Article or Defense Services Proposed to be Sold: See Annex attached.

(viii) Date Report Delivered to Congress: 15 January 2016

* As defined in Section 47(6) of the Arms Export Control Act

POLICY JUSTIFICATION

Iraq—F-16 Weapons, Munitions, Equipment, and Logistics Support

The Government of Iraq requested a possible sale of additional weapons, munitions, equipment, and logistics support for its F-16 aircraft.

Major Defense Equipment (MDE) includes:

Twenty (20) each Joint Helmet Mounted Cueing System (JHMCS)

Twenty-four (24) each AIM-9M Sidewinder missile

One hundred and fifty (150) each AGM-65D/G/H/K Maverick missile

Fourteen thousand one hundred and twenty (14,120) each 500-lb General Purpose (GP) bomb body/warhead for use either as unguided or guided bombs. Depending on asset availability during case execution, total quantity of 14,120 each 500-lb warheads will comprise a mix of MK-82 500-lb warheads and/or BLU-111 500-lb warheads from stock and/or new contract procurement.

Two thousand four hundred (2,400) each 2,000-lb GP bomb body/warheads for use either as unguided or guided bombs. Depending on asset availability during case execution, total quantity of 2,400 each 2,000-lb warheads will comprise a mix of MK-84 2,000-lb warheads and/or BLU-117 2,000-lb warheads from stock and/or new contract procurement.

Eight thousand (8,000) each Laser Guided Bomb (LGB) Paveway II tail kits. Will be combined with 500-lb warheads in the above entry for MK-82 and/or BLU-111 to build GBU-12 guided bombs.

Two hundred and fifty (250) each LGB Paveway II tail kits. Will be combined with 2,000-lb warheads in the above entry for MK-82 and/or BLU-117 to build GBU-10 guided bombs.

One hundred and fifty (150) each LGB Paveway III tail kits. Will be combined with 2,000-lb warheads in the above entry for MK-82 and/or BLU-117 to build GBU-24 guided bombs.

Eight thousand, five hundred (8,500) each FMU-152 fuzes. Will be used in conjunction with the LGB tail kits and warheads in the above entries to build GBU All Up Rounds (AUR's). Includes provisioning for spare FMU-152 fuze units (MDE).

Four (4) each WGU-43CD2/B Guidance Control Units

One (1) each M61 Vulcan Rotary 20mm cannon

Six (6) each MK-82 inert bomb

Four (4) each MK-84 inert bomb

Also included are items of significant military equipment (SME), spare and repair parts, publications, technical documents, weapons components, support equipment, personnel training, training equipment, Aviation Training, Contract Engineering Services, U.S. Government and contractor logistics, engineering, and technical support services, as well as other related elements of logistics and program support. Additional services provided are Aviation Contract Logistics Services including maintenance, supply, component repair/return, tools and manpower. This notification also includes Base Operations Support Services including construction, outfitting, supply, security, weapons, ammunition, vehicles, utilities, power generation, food, water, morale/recreation services, aircraft support and total manpower. The total estimated value of MDE is $ .550 billion. The total overall estimated value is $1.950 billion.

This proposed sale contributes to the foreign policy and national security of the United States by helping to improve the security of a strategic partner. This proposed sale directly supports Iraq and serves the interests of the people of Iraq and the United States.

Iraq previously purchased thirty-six (36) F-16 aircraft. Iraq requires these additional weapons, munitions, and technical services to maintain the operational capabilities of its aircraft. This proposed sale enables Iraq to fully maintain and employ its aircraft and sustain pilot training to effectively protect Iraq from current and future threats.

The proposed sale of these additional weapons, munitions, equipment, and support does not alter the basic military balance in the region.

The principal vendors are:

Lockheed Martin Aeronautics Company

Fort Worth, Texas

Lockheed Martin Simulation, Training and Support

Fort Worth, Texas

Raytheon Company

Lexington, Massachusetts

The Marvin Group

Inglewood, California

United Technologies Aerospace Systems

Chelmsford, Massachusetts

Lockheed Martin Mission Systems and Training

Fort Worth, Texas

Royal Jordanian Air Academy

Amman, Jordan

Pratt and Whitney

East Hartford, Connecticut

Michael Baker International

Alexandria, VA

There are no known offset agreements proposed in connection with this potential sale.

Implementation of this proposed sale requires approximately four hundred (400) U.S. Government and contractor personnel to reside in Iraq through calendar year 2020 as part of this sale to establish maintenance support, on-the-job maintenance training, and maintenance advice.

There is no adverse impact on U.S. defense readiness as a result of this proposed sale.

Transmittal No. 15-52

Notice of Proposed Issuance of Letter of Offer Pursuant to Section 36(b)(1) of the Arms Export Control Act

Annex

Item No. vii

(vii) Sensitivity of Technology:

1. This sale sustains sensitive technology previously sold to Iraq. The F-16C/D Block 50/52 weapon system is UNCLASSIFIED, except as noted below. The aircraft uses the F-16 airframe and features advanced avionics and systems. It contains the Pratt and Whitney F-100-PW-229 or the General Electric F-110-GE-129 engine, AN/APG-68V(9) radar, digital flight control system, internal and external electronic warfare equipment, Advanced Identification Friend or Foe (IFF) (without Mode IV), operational flight program, and software computer programs.

2. The AIM-9M-8/9 Sidewinder is a supersonic, heat-seeking, air-to-air missile carried by fighter aircraft. The hardware, software, and maintenance are classified CONFIDENTIAL. Pilot training, technical data, and documentation necessary for performance and operating information are classified SECRET.

3. The Paveway II/III (GBU-10/12/24) weapon is classified CONFIDENTIAL. Information revealing target designation tactics and associated aircraft maneuvers, the probability of destroying specific/peculiar targets, vulnerabilities regarding countermeasures and the electromagnetic environment is classified SECRET.

4. The AGM-65D/G/H/K Maverick air-to-ground missile is SECRET. The SECRET aspects of the Maverick system are tactics, information revealing its vulnerability to countermeasures, and counter-countermeasures. Manuals and maintenance have portions that are classified CONFIDENTIAL. Performance and operating logic of the countermeasures circuits are SECRET.

5. The Joint Helmet Mounted Cueing System (JHMCS) is a modified HGU-55/P helmet that incorporates a visor-projected Heads-Up Display to cue weapons and aircraft sensors to air and ground targets. The hardware is UNCLASSIFIED. The technical data and documents are classified up to SECRET.

6. The PGU-28 20mm High Explosive Incendiary ammunition is a low-drag round designed to reduce in-flight drag and deceleration. It is a semi-armor piercing high explosive incendiary round. The PGU-27 A/B 20mm ammunition is the target practice version of the PGU-28. Both the PGU-27 and the PGU-28 are UNCLASSIFIED.

7. The M61 20mm Vulcan Rotary Cannon is a six-barreled automatic cannon chambered in 20x102mm. This weapon is fixed mounted on fighter aircraft and is used for damaging and destroying aerial and ground targets. The cannon and the associated ammunition are UNCLASSIFIED.

8. The MK-82 and MK84 are 500-lb and 2000-lb general purpose bombs respectively. These blast and fragmentation bombs are designed to attack soft and intermediately protected targets. The weapons are UNCLASSIFIED.

9. The BLU-111 is a 500-lb bomb and the BLU-117 is a 2,000- lb bomb. Both bombs are similar to the MK-84 and are filled with the Insensitive Munitions explosive to resist exploding in fuel related fires. They are used by the U.S. Navy. The weapons are UNCLASSIFIED.

10. MJU-7 Flares are a magnesium-based Infrared (IR) countermeasure used for decoying air-to-air and surface-to-air missiles. The MJU-7 hardware is UNCLASSIFIED. Countermeasure effectiveness information is classified up to SECRET.

11. RR-170 Chaff is a countermeasure used to decoy radars and radar-guided missiles. The hardware is UNCLASSIFIED. Countermeasure effectiveness information is classified up to SECRET.

12. Software, hardware, and other data/information, which is classified or sensitive, is reviewed prior to release to protect system vulnerabilities, design data, and performance parameters. Some end-item hardware, software, and other data identified above are classified at the CONFIDENTIAL and SECRET level. Potential compromise of these systems is controlled through management of the basic software programs of highly sensitive systems and software-controlled weapon systems on a case-by-case basis.

13. If a technologically advanced adversary were to obtain knowledge of the specific hardware and software elements, the information could be used to develop countermeasures or equivalent systems which might reduce weapon system effectiveness or be used in the development of a system with similar or advanced capabilities.

14. This sale is necessary to further the U.S. foreign policy and national security objectives outlined in the Policy Justification. Moreover, the benefits derived from this sale, as outlined in the Policy Justification, outweigh the potential damage that could result if the sensitive technology were revealed to unauthorized persons.

15. All defense articles and services listed in this transmittal have been authorized for release and export to the Government of Iraq.

[FR Doc. 2016-02264 Filed 2-4-16; 8:45 am]

BILLING CODE 5001-06-P